DEPARTMENT OF TRANSPORTATION

Federal Aviation Administration

14 CFR Part 39

[Docket No. 2000-NM-372-AD; Amendment 39-12752; AD 2002-10-06]

RIN 2120-AA64

Airworthiness Directives; Airbus Model A319, A320, and A321 Series Airplanes

AGENCY: Federal Aviation Administration, DOT.

ACTION: Final rule.

SUMMARY: This amendment adopts a new airworthiness directive (AD), applicable to certain Airbus Model A319, A320, and A321 series airplanes, that requires replacing certain flight warning computers (FWCs) with improved FWCs. This amendment is prompted by issuance of mandatory continuing airworthiness information by a foreign civil airworthiness authority. The actions specified by this AD are intended to prevent erroneous display of decision height information to the flightcrew during final approach, which could result in an increased risk of collision with terrain.

DATES: Effective June 24, 2002.

The incorporation by reference of certain publications listed in the regulations is approved by the Director of the Federal Register as of June 24, 2002.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION: A proposal to amend part 39 of the Federal Aviation Regulations (14 CFR part 39) to include an airworthiness directive (AD) that is applicable to certain Airbus Model A319, A320, and A321 series airplanes was published in the Federal Register on September 25, 2001 (66 FR 48985). That action proposed to require replacing certain flight warning computers (FWCs) with improved FWCs.

Comments

Interested persons have been afforded an opportunity to participate in the making of this amendment. Due consideration has been given to the comments received.

One commenter requests that the proposed AD be revised to supersede AD 2000-04-11, amendment 39-11593 (65 FR 9209, February 24, 2000), and to restate the requirements of that AD as well as to require the previously optional terminating action. AD 2000-04-11 requires incorporation of a specific operational procedure into the Airplane Flight Manual (AFM) and provides for optional terminating action to incorporate Airbus Service Bulletin A320-31-1106. The proposed AD would require accomplishment of that Airbus service bulletin, which would terminate the requirements of AD 2000-04-11.

The FAA does not concur. The applicability of AD 2000-04-11, which corresponds to French airworthiness directive 2000-004-142(B), is different from the applicability of this final rule. AD 2000-04-11 and the French airworthiness directive apply only to Airbus Model A319, A320, and A321 series airplanes equipped with Rockwell Collins radio altimeter LRA 700 having part number 622-4542-020, excluding those on which Airbus Modification 26017 has been installed. However, this final rule and corresponding French airworthiness directive 2000-320-147(B) apply to all Airbus Model A319, A320, and A321 series airplanes without Airbus Modification 26017, regardless of which radio altimeter is installed. In addition, French airworthiness directive 2000-320-147(B) did not supersede French airworthiness directive 2000-04-142(B), nor was the latter cancelled. Therefore, the FAA actions are consistent with the French airworthiness directives.

The same commenter requests that the statement of unsafe condition in the proposed AD be revised to be consistent with AD 2000-04-11, as follows: “To prevent erroneous display of decision height information to the flightcrew during final approach, which could result in an increased risk of collision with the terrain, accomplish the following. * * *” The FAA concurs, and has revised this final rule accordingly.

Conclusion

After careful review of the available data, including the comments noted above, the FAA has determined that air safety and the public interest require the adoption of the rule with the change described previously. The FAA has determined that this change will neither increase the economic burden on any operator nor increase the scope of the AD.

Cost Impact

The FAA estimates that 352 airplanes of U.S. registry will be affected by this AD, that it will take approximately 3 work hours per airplane to accomplish the required actions, and that the average labor rate is $60 per work hour. Required parts will be provided by the manufacturer at no cost to the operators. Based on these figures, the cost impact of the AD on U.S. operators is estimated to be $63,360, or $180 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-10-06 Airbus Industrie: Amendment 39-12752. Docket 2000-NM-372-AD.

Applicability: Model A319, A320, and A321 series airplanes without Airbus Modification 26017; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent erroneous display of decision height information to the flightcrew during final approach, which could result in an increased risk of collision with terrain, accomplish the following:

Modification

(a) Within 18 months after the effective date of this AD, replace the flight warning computers (FWCs) in accordance with Airbus Service Bulletin A320-31-1106, Revision 04, dated December 21, 1999.

Note 2: FWC replacement accomplished prior to the effective date of this AD in accordance with Airbus Service Bulletin A320-31-1106, dated January 3, 1997; Revision 01, dated April 16, 1997; Revision 02, dated January 20, 1998; or Revision 03,dated July 9, 1999, is acceptable for compliance with the requirements of paragraph (a) of this AD.

Spare Parts

(b) As of the effective date of this AD, no person may install an FWC, part number 350E017251414, on any airplane.

Alternative Methods of Compliance

(c) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(d) Special flight permits may be issued in accordance with §§ 21.197 and 21.199 of the Federal Aviation Regulations (14 CFR 21.197 and 21.199) to operate the airplane to a location where the requirements of this AD can be accomplished.

Incorporation by Reference

(e) The actions shall be done in accordance with Airbus Service Bulletin A320-31-1106, Revision 04, dated December 21, 1999. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., Suite 700, Washington, DC.

Note 4: The subject of this AD is addressed in French airworthiness directive 2000-320-147(B), dated July 26, 2000.

(f) This amendment becomes effective on June 24, 2002.

Issued in Renton, Washington, on May 10, 2002.
Ali Bahrami,
Acting Manager, Transport Airplane Directorate, Aircraft Certification Service.

[FR Doc. 02-12321 Filed 5-17-02; 8:45 am]

BILLING CODE 4910-13-U